DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: FASD Diagnosis and Intervention Programs in the Fetal Alcohol Spectrum Disorder (FASD) Center of Excellence—New

Since 2001, SAMHSA's Center for Substance Abuse Prevention has been operating a Fetal Alcohol Spectrum Disorder (FASD) Center of Excellence which addresses FASD mainly by providing trainings and technical assistance; and developing and supporting systems of care that respond to FASD using effective evidence based practices and interventions.

Currently the integration of evidence-based practices into service delivery organizations is being accomplished through subcontracts. One such intervention which integrates diagnosis and intervention strategies into existing service delivery organizations is the FASD Diagnosis and Intervention programs targeting children 0-18 years of age. The Diagnosis and Intervention programs use the following 11 data collection tools.

Description of Instruments/Activity for the Diagnosis and Intervention Programs
Instrument/Activity | Description
Screening and Diagnosis Tool | The purpose of the screening and diagnosis tool is to determine eligibility to participate in the SAMHSA FASD Center Diagnosis and Treatment Intervention. The form includes demographic, screening, and diagnostic data.
Positive Monitor Tracking | The Positive Monitor Tracking form is to monitor the outcome of placing a child (ages 0-3 years) on a positive monitor.
Services Child is Receiving at the time of the FASD Diagnosis | The Services Child is Receiving at the time of the FASD Diagnosis form is to record services the child is receiving at the time of an FASD diagnosis.
Services Planned and Provided based on Diagnostic Evaluation | The Services Planned and Provided based on Diagnostic Evaluation form is to record services planned and received based on the diagnostic evaluation.
Services Delivery Tracking Form | The Services Delivery Tracking form is for the services provided during every visit.
End of Intervention/Program Improvement Measure—Case Manager | The End of Intervention/Program Improvement Measure—Case Manager form is for the case manager to report on the overall improvement in the child as a result of receiving services.
End of Intervention/Program Improvement Measure—Parent/Guardian | The End of Intervention/Program Improvement Measure—Parent/Guardian form is for the parent/guardian to report on the overall improvement in the child as a result of receiving services.
End of Intervention/Program Customer Satisfaction with Service | The End of Intervention/Program Customer Satisfaction with Service form is to determine customer satisfaction (parents) with the SAMHSA FASD Center Diagnosis and Intervention project.
Outcome Measures (Children 0-7 years) | The Outcome Measures (Children 0-7 years) form is an outcomes measure checklist used to record measures every six months from start of service to end of service, at end of intervention, at 6 months follow-up, and 12 months follow-up.
Outcome Measures (Children 8-18 years) | The Outcome Measures (Children 8-18 years) form is an outcomes measure checklist used to record measures every six months from start of service to end of service, at end of intervention, at 6 months follow-up, and 12 months follow-up.
Lost to follow-up | The Lost to follow-up form is used if the child is no longer accessible for follow-up.

Eight subcontracts were awarded in February 2008 to integrate the FASD Diagnosis and Intervention program within existing service delivery organization sites. Using an integrated service delivery model all sites are screening children using an FASD screening tool, obtaining a diagnostic evaluation, and providing services/interventions as indicated by the diagnostic evaluation. Specific interventions are based upon the individual child's diagnosis. Six of the sites are integrating the FASD Diagnosis and Intervention projects either in a child mental health provider setting or in a dependency court setting and serve children ages 0-7 years. Two of the sites are delinquency courts and serve children 10-18 years of age.

Data collection at all sites involves administering the screening and diagnosis tool, recording process level indicators such as type and units of service provided; improvement in functionality and outcome measures such as school performance, stability in housing/placement, and adjudication measures (10-18 yrs only). Data will be collected at baseline, monthly, every six months from start of service to end of service, at end of intervention, at 6 months follow-up, and 12 months follow-up.

Estimated Annualized Burden Hours
Instrument/Activity | Number of respondents | Number of responses per respondent | Average burden per response | Total burden hours per collection
Client Surveys: Children 0-7
Screening and Diagnosis Tool | 1400 | 1 | 0.17 | 238
Positive Monitor Tracking | 450 | 1 | 0.03 | 14
Services Child is Receiving at the time of the FASD Diagnosis | 750 | 1 | 0.17 | 128
Services Planned and Provided based on Diagnostic Evaluation | 750 | 1 | 0.33 | 248
Services Delivery Tracking Form | 750 | 12 | 0.08 | 720
End of Intervention/Program Improvement Measure—Case Manager | 750 | 1 | 0.02 | 15
End of Intervention/Program Improvement Measure—Parent/Guardian | 750 | 1 | 0.02 | 15
End of Intervention/Program Customer Satisfaction with Service | 750 | 1 | 0.03 | 23
Outcome Measures (Children 0-7 years) | 750 | 3 | 0.08 | 180
Lost to follow-up | 135 | 1 | 0.03 | 4
Client Surveys: Children 8-18:
Screening and Diagnosis Tool | 100 | 1 | 0.17 | 17
Services Child is Receiving at the time of the FASD Diagnosis | 50 | 1 | 0.17 | 9
Services Planned and Provided based on Diagnostic Evaluation | 50 | 1 | 0.33 | 17
Services Delivery Tracking Form | 50 | 12 | 0.08 | 48
End of Intervention/Program Improvement Measure—Case Manager | 50 | 1 | 0.02 | 1
End of Intervention/Program Improvement Measure—Parent/Guardian | 50 | 1 | 0.02 | 1
End of Intervention/Program Customer Satisfaction with Service | 50 | 1 | 0.03 | 2
Outcome Measures (Children 8-18 years) | 50 | 3 | 0.08 | 12
Lost to follow-up | 15 | 1 | 0.03 | 1
TOTAL | 7,700 | 45 | — | 1,693

Send comments to Summer King, SAMHSA Reports Clearance Officer, Room 7-1044, One Choke Cherry Road, Rockville, MD 20857 AND e-mail her a copy at summer.king@samhsa.hhs.gov. Written comments should be received within 60 days of this notice.

Dated: November 4, 2009.
Elaine Parry,
Director, Office of Program Services.

[FR Doc. E9-27524 Filed 11-16-09; 8:45 am]

BILLING CODE 4162-20-P